DEPARTMENT OF LABOR

Occupational Safety and Health Administration

[Docket No. OSHA-2009-0026]

Bureau Veritas Consumer Products Services, Inc.: Grant of Expansion of Recognition

AGENCY: Occupational Safety and Health Administration (OSHA), Labor.

ACTION: Notice.

SUMMARY: In this notice, OSHA announces the final decision to expand the scope of recognition of Bureau Veritas Consumer Products Services, Inc. (BVCPS) as a Nationally Recognized Testing Laboratory (NRTL).

DATES: The expansion of the scope of recognition becomes effective on April 22, 2021.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Notice of Final Decision

OSHA hereby gives notice of the expansion of the scope of recognition of Bureau Veritas Consumer Product Services (BVCPS) as a NRTL. BVCPS's expansion covers the addition of two recognized test sites and twenty-one recognized test standards to the scope of recognition.

OSHA recognition of a NRTL signifies that the organization meets the requirements specified by 29 CFR 1910.7. Recognition is an acknowledgment that the organization can perform independent safety testing and certification of the specific products covered within its scope of recognition and is not a delegation or grant of government authority. As a result of recognition, employers may use products properly approved by the NRTL to meet OSHA standards that require testing and certification of the products.

The agency processes applications by a NRTL for initial recognition, or for expansion or renewal of this recognition, following requirements in Appendix A to 29 CFR 1910.7. This appendix requires that the agency publish two notices in the Federal Register in processing an application. In the first notice, OSHA announces the application and provides a preliminary finding and, in the second notice, the agency provides the final decision on the application. These notices set forth the NRTL's scope of recognition or modifications of that scope. OSHA maintains an informational web page for each NRTL that details its scope of recognition. These pages are available from the agency's website at http://www.osha.gov/dts/otpca/nrtl/index.html.

BVCPS currently has one facility (site) recognized by OSHA for product testing and certification, with headquarters located at: Bureau Veritas Consumer Products Services, Inc., One Distribution Circle, Suite #1, Littleton, MA 01460. A complete list of BVCPS's scope of recognition is available at https://www.osha.gov/dts/otpca/nrtl/csl.html.

BVCPS submitted an application, dated June 28, 2018 (OSHA-2009-0026-0083), to expand recognition to include the addition of two recognized testing and certification sites. BVCPS amended this application on May 20, 2020, to include the addition of twenty-one recognized test standards. The amended application listed an additional standard, UL 962, which is already included in BVCPS's NRTL scope of recognition and will not be considered in this notice. The first new site is located at: Bureau Veritas Consumer Products Services (H.K.) Ltd. Taoyuan Branch, No. 19, Hwa Ya 2nd Rd., Wen Hwa Vil., Kewi Shan Dist., Taoyuan City, Taiwan. The second new site is located at: LCIE China Company Limited, Building 4, No. 518, Xin Zhuan Road, CaoHejiing Songjiang High-Tech Park, Shanghai 201612 China. OSHA staff performed on-site reviews of BVCPS Shanghai, China's testing facility on February 27-28, 2019 and BVCPS Taoyuan Branch's testing facility on March 5-6, 2019, in which the assessors found some non-conformances with the requirements of 29 CFR 1910.7. BVCPS addressed these non-conformances satisfactorily, and OSHA made a preliminary decision to approve the application.

OSHA published the preliminary notice announcing BVCPS's expansion application in the Federal Register on February 23, 2021 (86 FR 11001). The agency requested comments by March 10, 2021, but received no comments in response to this notice. OSHA now is proceeding with this final notice to grant expansion of BVCPS's scope of recognition.

To obtain or review copies of all public documents pertaining to BVCPS's application, go to http://www.regulations.gov or contact the Docket Office, Occupational Safety and Health Administration, U.S. Department of Labor, 200 Constitution Avenue NW, Room N-3653, Washington, DC 20210. Docket No. OSHA-2009-0026 contains all materials in the record concerning BVCPS's recognition. Please note: Due to the COVID-19 pandemic, the Docket Office is closed to the public at this time but can be contacted at (202) 693-2350.

II. Final Decision and Order

OSHA staff examined BVCPS's expansion application, the capability to meet the requirements of the test standards, and other pertinent information. Based on a review of this evidence, OSHA finds that BVCPS meets the requirements of 29 CFR 1910.7 for expansion of the recognition, subject to the specified limitations, and conditions listed. OSHA, therefore, is proceeding with this final notice to grant BVCPS's scope of recognition. OSHA limits the expansion of BVCPS's recognition to include the sites at Shanghai, China and Taoyuan City, Taiwan, in addition to the testing and certification of products for demonstration of conformance to the test standards listed below in Table 1.

Table 1—List of Appropriate Test Standards for Inclusion in BVCPS's NRTL Scope of Recognition
Test standard | Test standard title
UL 1081 | Electric Swimming Pools Pumps, Filters and Chlorinators.
UL 1450 | Motor-Operated Air Compressors, Vacuum Pumps and Painting Equipment.
UL 1563 | Electric Spas, Equipment Assemblies and Associated Equipment.
UL 60335-2-24 | Household Refrigerators and Freezers.
UL 471 | Commercial Refrigerators and Freezers.
UL 484 | Room Air Conditioners.
UL 60335-2-40 | Household and Similar Electrical Appliances, Part 2: Particular Requirements for Electrical Heat Pumps, Air-Conditioners and Dehumidifiers.
UL 778 | Motor-Operated Water Pumps.
UL 859 | Personal Grooming Appliance.
UL 867 | Electrostatic Air Cleaners.
UL 1598C | Light Emitting Diode (LED) Retrofit Luminaire Conversion Kit.
UL 1838 | Low Voltage Landscape Lighting Systems.
UL 2108 | Low Voltage Lighting Systems.
UL 60745-2-13 | Particular Requirements for Chain Saws.
UL 60745-2-14 | Particular Requirements for Planers.
UL 60745-2-15 | Particular Requirements Hedge Trimmers.
UL 60745-2-16 | Particular Requirements for Tackers.
UL 60745-2-17 | Particular Requirements for Routers and Trimmers.
UL 60745-2-22 | Particular Requirements for Cut-Off Machines.
UL 60745-2-8 | Particular Requirements for Shears and Nibblers.
UL 60745-2-9 | Particular Requirements for Tappers.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standards listed above as American National Standards. However, for convenience, the use of the designation of the standards-developing organization for the standard as opposed to the ANSI designation may occur. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, BVCPS must abide by the following conditions of the recognition:

1. BVCPS must inform OSHA as soon as possible, in writing, of any change of ownership, facilities, or key personnel, and of any major change in its operations as a NRTL, and provide details of the change(s);

2. BVCPS must meet all the terms of its recognition and comply with all OSHA policies pertaining to this recognition; and

3. BVCPS must continue to meet the requirements for recognition, including all previously published conditions on BVCPS's scope of recognition, in all areas for which it has recognition.

Pursuant to the authority in 29 CFR 1910.7, OSHA hereby expands the scope of recognition of BVCPS, subject to the limitations and conditions specified above.

IV. Authority and Signature

James S. Frederick, Acting Assistant Secretary of Labor for Occupational Safety and Health, 200 Constitution Avenue NW, Washington, DC 20210, authorized the preparation of this notice. Accordingly, the agency is issuing this notice pursuant to Section 29 U.S.C. 655(6)(d), Secretary of Labor's Order No. 8-2020 (85 FR 58393; Sept. 18, 2020), and 29 CFR 1905.11.

Signed at Washington, DC, on April 14, 2021.
James S. Frederick,
Acting Assistant Secretary of Labor for Occupational Safety and Health.

[FR Doc. 2021-08340 Filed 4-21-21; 8:45 am]

BILLING CODE 4510-26-P